Title 3—

The President

Memorandum of December 21, 2018

Delegation of Functions and Authorities Under Section 1238 of the FAA Reauthorization Act of 2018

Memorandum for the Secretary of State [and] the Secretary of Homeland Security

By the authority vested in me as President by the Constitution and the laws of the United States of America, including section 301 of title 3, United States Code, I hereby:

(1) delegate to the Secretary of State the functions and authorities vested in the President by sections 1238(a)(1)(A)-(B) of the FAA Reauthorization Act of 2018 (Public Law 115-254); and

(2) delegate to the Secretary of Homeland Security the functions and authorities vested in the President by sections 1238(a)(1)(C)-(H) of the FAA Reauthorization Act of 2018.

The delegations in this memorandum shall apply to any provisions of any future public law that are the same or substantially the same as the provisions referenced in this memorandum. The Secretary of State and the Secretary of Homeland Security may redelegate within their departments the functions and authorities delegated by this memorandum to the extent authorized by law.

The Secretary of State is authorized and directed to publish this memorandum in the Federal Register.

THE WHITE HOUSE,

Washington, December 21, 2018

[FR Doc. 2019-02455

Filed 2-12-19; 11:15 am]

Billing code 4710-10-P